DEPARTMENT OF HEALTH AND HUMAN SERVICES

National Institutes of Health

Proposed Collection; 60-Day Comment Request; Collection of Customer Service, Demographic, and Smoking/Tobacco Use Information From the National Cancer Institute's (NCI) Cancer Information Service (CIS)

AGENCY: National Institutes of Health, Health and Human Services (HHS).

ACTION: Notice.

SUMMARY: In compliance with the requirements of the Paperwork Reduction Act of 1995 to provide opportunity for public comment on proposed data collection projects, the National Cancer Institute (NCI) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Candace Maynard, Branch Chief, Cancer Information Service Branch, CISB/OCPL, 9609 Medical Center Drive, Rockville, MD 20850, or call non-toll-free number 240-276-6657 or email your request, including your address to: deatonc@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Collection of Customer Service, Demographic, and Smoking/Tobacco use Information from the National Cancer Institute's (NCI) Cancer Information Service (CIS), 0925-0208, Expiration Date 02/28/2022, REVISION, National Cancer Institute (NCI), National Institutes of Health (NIH).

Need and Use of Information Collection: The National Cancer Institute (NCI) currently collects: (1) Customer service and demographic information from clients of the Cancer Information Service (CIS) in order to properly plan, implement, and evaluate cancer education efforts, including assessing the extent by which the CIS reaches and impacts underserved populations; (2) smoking/tobacco use behavior of individuals seeking NCI's smoking cessation assistance through the CIS in order to provide smoking cessation services tailored to the individual client's needs and track their smoking behavior at follow up. This is a request for OMB to approve a revised submission for an additional three years to provide ongoing customer service collection of demographic information, and collection of brief customer satisfaction questions from NCI Cancer Information Service Clients for the purpose of program planning and evaluation.

OMB approval is requested for 3 years. There are no costs to respondents other than their time. The total estimated annualized burden hours are 5,818 hours.

Estimated Annualized Burden Hours
Form name | Category of respondent | Number of respondents | Number of responses per respondent | Average time per response (in hours) | Total annual burden hours
Demographic & Customer Satisfaction Questions (Appendix 1A or 1AB) | Individuals | 24,133 | 1 | 3/60 | 1,207
Demographic & Customer Satisfaction Questions (Appendix 1B) | Individuals | 58,501 | 1 | 2/60 | 1,950
Smoking Cessation “Intake” Questions (Appendix 1C) | Individuals | 2,888 | 1 | 6/60 | 289
Smoking Call Backs (Appendix 1D) | Individuals | 2,904 | 1 | 4/60 | 194
VA Call Backs (Appendix 1E) | Individuals | 8,166 | 1 | 4/60 | 544
Cancer Info Call Backs (Appendix 1F) | Individuals | 2,242 | 1 | 4/60 | 149
Email Intake Form (Appendix 2) | Individuals | 8,796 | 1 | 10/60 | 1,466
Demographic & Customer Satisfaction Questions (Appendix 9) | Individuals | 578 | 1 | 2/60 | 19
Totals |  | 108,208 |  |  | 5,818

Dated: October 15, 2021.
Diane Kreinbrink,
Project Clearance Liaison, National Cancer Institute, National Institutes of Health.

[FR Doc. 2021-22875 Filed 10-19-21; 8:45 am]

BILLING CODE 4140-01-P